FEDERAL COMMUNICATIONS COMMISSION

Media Security and Reliability Council

AGENCY: Federal Communications Commission.

ACTION: Notice of meeting.

SUMMARY: In accordance with the Federal Advisory Committee Act, this notice advises interested persons of a meeting of the Media Security and Reliability Council (Council). The meeting will be held at the Federal Communications Commission in Washington, DC.

DATES: Wednesday, May 28, 2003 at 10:00 a.m. to 11:30 a.m.

ADDRESSES: Federal Communications Commission, 445 12th St. SW Room TW-C305, Washington, DC.

FOR FURTHER INFORMATION CONTACT: Barbara Kreisman at 202-418-1600 or TTY 202-418-7172.

SUPPLEMENTARY INFORMATION: The Council was established by the Federal Communications Commission to bring together leaders of the broadcast and multichannel video programming distribution industries and experts from consumer, public safety and other organizations to explore and recommend measures that would enhance the security and reliability of media facilities and services.

The Council will receive mid-term reports and potential initial recommendations from its working groups. The Council may also discuss such other matters as come before it at the meeting. Members of the general public may attend the meeting. The Federal Communications Commission will attempt to accommodate as many people as possible. Admittance, however, will be limited to the seating available. The public may submit written comments before the meeting to Barbara Kreisman, the Commission's Designated Federal Officer for the Media Security and Reliability Council, by email (bkreisma@fcc.gov) or U.S. mail (2-A666, 445 12th St. SW, Washington, DC 20554). Real Audio and streaming video Access to the meeting will be available at http://www.fcc.gov/

Federal Communications Commission.
Marlene H. Dortch,
Secretary.

[FR Doc. 02-29291 Filed 11-18-02; 8:45 am]

BILLING CODE 6712-01-P